DEPARTMENT OF THE TREASURY

Internal Revenue Service

26 CFR Part 1

[TD 9321]

RIN 1545-BE79

Application of Section 409A to Nonqualified Deferred Compensation Plans; Correction

AGENCY: Internal Revenue Service (IRS), Treasury.

ACTION: Correcting amendment.

SUMMARY: This document contains corrections to final regulations (TD 9321) which were published in the Federal Register on April 17, 2007 (72 FR 19323), corrected July 31, 2007 (72 FR 41620) and September 24, 2007 (72 FR 54945). The final regulations relate to section 409A and nonqualified deferred compensation plans.

DATES: This correction is effective October 7, 2008.

Applicability date: April 17, 2007.

FOR FURTHER INFORMATION: Guy R. Traynor, (202) 622-3693 (not a toll-free number).

SUPPLEMENTARY INFORMATION:

Background

The final regulations that are subject to this document are under section 409A of the Internal Revenue Code.

Need for Correction

As published, the correcting amendment of September 24, 2008 (72 FR 54945) to final regulations (TD 9321) contains errors that may prove to be misleading and is in need of clarification.

List of Subjects in 26 CFR Part 1

Income taxes, Reporting and recordkeeping requirements.

Correction of Publication

Accordingly, 26 CFR part 1 is corrected by making the following correcting amendment.

PART 1—INCOME TAXES

Paragraph 1. The authority citation for part 1 continues to read as follows:

Authority: 26 U.S.C. 7805 * * *

Par. 2. Section 1.409A-6(a)(3)(i), the third sentence is corrected to read as follows:

§ 1.409A-6 Application of section 409A and effective dates.

* * * * *

(a) * * *

(3) * * *

(i) Nonaccount balance plans. * * * For purposes of calculating the present value of a benefit under this paragraph (a)(3)(i), reasonable actuarial assumptions and methods must be used. * * *

* * * * *

Guy R. Traynor,
Federal Register Liaison, Legal Processing Division, Associate Chief Counsel (Procedure and Administration).

[FR Doc. E8-23652 Filed 10-6-08; 8:45 am]

BILLING CODE 4830-01-P